DEPARTMENT OF TRANSPORTATION

Federal Aviation Administration

14 CFR Part 71

[Docket No. FAA-2024-2455; Airspace Docket No. 24-ANM-98]

RIN 2120-AA66

Modification & Establishment of Class E Airspace; Cortez Municipal Airport, Cortez, CO

AGENCY: Federal Aviation Administration (FAA), DOT.

ACTION: Final rule.

SUMMARY: This action modifies the Class E airspace designated as a surface area, modifies the Class E airspace extending upward from 700 feet above the surface, and establishes Class E airspace designated as an extension to a Class E surface area at Cortez Municipal Airport, Cortez, CO. This action also updates the administrative portions of the airport's legal descriptions. These actions support the safety and management of instrument flight rules (IFR) operations at the airport.

DATES: Effective date 0901 UTC, August 7, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Nathan A. Chaffman, Federal Aviation Administration, Western Service Center, Operations Support Group, 2200 S. 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies and establishes Class E airspace to support IFR operations at Cortez Municipal Airport, CO.

History

The FAA published a notice of proposed rulemaking for Docket No. FAA-2024-2455 in the Federal Register (90 FR 4684; January 16, 2025), proposing to modify and establish Class E airspace at Cortez Municipal Airport, Cortez, CO. Interested parties were invited to participate in this rulemaking effort by submitting written comments on the proposal to the FAA. No comments were received.

Differences From the NPRM

Subsequent to the publication of the NPRM and effective February 10, 2025, the FAA's definition of the acronym “NOTAM” reverted to “Notice to Airmen.” As such, the proposal to update the term within the legal description of the Class E airspace designated as a surface area is no longer necessary and is withdrawn.

Incorporation by Reference

Class E2, E4, and E5 airspace areas are published in paragraphs 6002, 6004, and 6005, respectively, of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document. FAA Order JO 7400.11J lists Class A, B, C, D, and E airspace areas, air traffic service routes, and reporting points.

The Rule

The FAA is amending 14 CFR part 71 to modify Class E airspace designated as a surface area, modify the Class E airspace extending upward from 700 feet above the surface, and establish Class E airspace designated as an extension to a Class E surface area at Cortez Municipal Airport, Cortez, CO.

The radius of the Class E airspace designated as a surface area is widened by a half mile to better contain arriving IFR aircraft when less than 1,000 feet above the surface when conducting circling maneuvers or when executing the Area Navigation (RNAV) (Global Positioning System [GPS]) Runway (RWY) 3 approach, and aircraft conducting the missed approach portions of the Very High Frequency Omnidirectional Range (VOR) RWY 3, RNAV (GPS) Y RWY 21, and RNAV (GPS) Z RWY 21 approaches until reaching the next adjacent airspace. Furthermore, the Class E airspace designated as surface area is extended .8 miles to the northeast to laterally contain IFR departure operations while between the surface and the base of adjacent controlled airspace when executing the LEDVE RWY 3 or CORTEZ TWO RWY 3 departure procedures. Moreover, the Class E airspace designated as surface area is extended 2.4 miles to the southwest to laterally contain IFR departure operations while between the surface and the base of adjacent controlled airspace when executing the LEDVE RWY 21 or CORTEZ TWO RWY 21 departure procedures. Finally, the northern leg of the Class E airspace designated as surface area no longer serves the purpose of containment and is removed.

An extension to the Class E airspace designated as surface area measuring approximately 8 x 8 miles is established to the northeast, as the previously designated Class E surface area airspace did not fully contain arriving IFR aircraft when less than 1,000 feet above the surface when executing the RNAV (GPS) Y RWY 21 or RNAV (GPS) Z RWY 21 approaches. This extension contains these operations more appropriately without imposing a 2-way radio communication requirement.

The central radius of the Class E airspace extending upward from 700 feet above the surface is reduced from 7 miles to 6.1 miles, as there were portions of the previously designated Class E airspace to the southeast and west that did not provide procedural containment. Secondly, the northern extension of the Class E airspace extending upward from 700 feet above the surface is widened by 6 miles and re-aligned to the northeast, which better contains arriving IFR operations below 1,500 feet above the surface when executing the RNAV (GPS) Y RWY 21 or RNAV (GPS) Z RWY 21 approaches. The Class E airspace extending upward from 700 feet above the surface is extended to the southwest to contain aircraft more appropriately until reaching 1,200 feet above the surface when executing the CORTEZ TWO RWY 21 or LEDVE ONE RWY 21 departure procedures, or the missed approach portion of the RNAV (GPS) Z RWY 21 approach until reaching 1,200 feet above the surface. The Class E airspace extending upward from 700 feet above the surface is extended 1.8 miles to the north-northwest of the airport to better contain aircraft executing the missed approach portion of the RNAV (GPS) Y RWY 21 approach until reaching 1,200 feet above the surface.

Lastly, the FAA finalizes administrative modifications to the airport's legal descriptions. The airport's name on line two of the legal description text headers is amended to read “Cortez Municipal Airport” to match the FAA's database. Reference to the Cortez VOR/Distance Measuring Equipment (DME) on line three of the airport's legal descriptions is no longer needed and is removed. The airspace is now described using the airport reference point. The legal description for the Class E airspace designated as surface area is updated to replace the outdated use of the phrase “Airport/Facility Directory.” This phrase now reads “Chart Supplement,” to align with the FAA's current nomenclature.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11J, Airspace Designations and Reporting Points, dated July 31, 2024, and effective September 15, 2024, is amended as follows:

Paragraph 6002 Class E Airspace Areas Designated as a Surface Area

* * * * *

ANM CO E2 Cortez, CO [Amended]

Cortez Municipal Airport, CO

(Lat. 37°18′11″ N, long. 108°37′41″ W)

That airspace extending upward from the surface within a 4.8-mile radius of the airport, within 1.9 miles either side of the airport's 032° bearing extending from its 4.8-mile radius to 5.6 miles northeast, and within 1.9 miles either side of the airport's 217° bearing extending from its 4.8-mile radius to 7.2 miles southwest. This Class E airspace area is effective during the specific dates and times established in advance by a Notice to Airmen. The effective date and time will thereafter be continuously published in the Chart Supplement.

* * * * *

Paragraph 6004 Class E Airspace Areas Designated as an Extension to a Class D or Class E Surface Area

* * * * *

ANM CO E4 Cortez, CO [New]

Cortez Municipal Airport, CO

(Lat. 37°18′11″ N, long. 108°37′41″ W)

That airspace extending upward from the surface within 4.1 miles either side of the airport's 042° bearing extending from its 4.8-mile radius to 13 miles northeast of the airport, excluding that airspace within the airport's Class E airspace designated as a surface area.

* * * * *

Paragraph 6005 Class E Airspace Areas Extending Upward From 700 Feet or More Above the Surface of the Earth

* * * * *

ANM CO E5 Cortez, CO [Amended]

Cortez Municipal Airport, CO

(Lat. 37°18′11″ N, long. 108°37′41″ W)

That airspace extending upward from 700 feet above the surface within a 6.1-mile radius of the airport, within 6.1 miles either side of the airport's 048° bearing extending from the 6.1-mile radius to 18.8 miles northeast, within 1.9 miles either side of the airport's 217° bearing extending from the 6.1-mile radius to 9.4 miles southwest, and within 4.2 miles west of the airport's 350° bearing extending from the 6.1-mile radius to 7.9 miles north.

* * * * *

Issued in Des Moines, Washington, on April 4, 2025.
B.G. Chew,
Group Manager, Operations Support Group, Western Service Center.

[FR Doc. 2025-06190 Filed 4-11-25; 8:45 am]

BILLING CODE 4910-13-P